DEPARTMENT OF COMMERCE

Foreign-Trade Zones Board

[B-01-2018]

Foreign-Trade Zone (FTZ) 41—Milwaukee, Wisconsin, Notification of Proposed Production Activity, Quad/Graphics, Inc.—Chemical Research\Technology, (Offset and Gravure Publication Printing Ink), Hartford and Sussex, Wisconsin

The Port of Milwaukee, grantee of FTZ 41, submitted a notification of proposed production activity to the FTZ Board on behalf of Quad/Graphics, Inc.—Chemical Research\Technology (Quad/Graphics—C\RT), located in Hartford and Sussex, Wisconsin. The notification conforming to the requirements of the regulations of the FTZ Board (15 CFR 400.22) was received on December 5, 2017.

The applicant indicates that it has submitted a separate application for FTZ designation at the Quad/Graphics—C\RT facility under FTZ 41. The facility is used for the production of offset and gravure publication printing ink. Pursuant to 15 CFR 400.14(b), FTZ activity would be limited to the specific foreign-status materials and components and specific finished product described in the submitted notification (as described below) and subsequently authorized by the FTZ Board.

Production under FTZ procedures could exempt Quad/Graphics—C\RT from customs duty payments on the foreign-status materials used in export production. On its domestic sales, for the foreign-status materials noted below, Quad/Graphics—C\RT would be able to choose the duty rate during customs entry procedures that applies to offset and gravure publication printing ink (duty rate—1.8%). Quad/Graphics—C\RT would be able to avoid duty on foreign-status materials which become scrap/waste. Customs duties also could possibly be deferred or reduced on foreign-status production equipment.

The materials sourced from abroad include: offset pigments (Yellow 174, Red 57:1 and Blue 15:3); gravure pigments (Yellow 14, Yellow 12, Red 57:1 and Blue 15:4); and, flush pigment preparations for offset heat-set publication printing (Yellow 12, Red 57:1 and Blue 15:3) (duty rate—6.5%).

Public comment is invited from interested parties. Submissions shall be addressed to the Board's Executive Secretary at the address below. The closing period for their receipt is February 20, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Diane Finver at Diane.Finver@trade.gov or (202) 482-1367.

Dated: January 3, 2018.
Andrew McGilvray,
Executive Secretary.

[FR Doc. 2018-00188 Filed 1-8-18; 8:45 am]

BILLING CODE 3510-DS-P